DEPARTMENT OF HOUSING AND URBAN DEVELOPMENT

24 CFR Part 92

[Docket No. FR-6249-C-03]

RIN 2529-AB01

Restoring Affirmatively Furthering Fair Housing Definitions and Certifications

AGENCY: Office of General Counsel, HUD.

ACTION: Interim final rule; correction.

SUMMARY: On June 23, 2021, HUD published a document to correct an amendatory instruction appearing in its Restoring Affirmatively Furthering Fair Housing Definitions and Certifications interim final rule, which published on June 10, 2021. In that document, HUD incorrectly referenced the Federal Register publication date for its interim final rule. For the convenience of the public, this document republishes HUD's June 23, 2021, correction with the corrected publication dates.

DATES: Effective July 31, 2021.

FOR FURTHER INFORMATION CONTACT: Aaron Santa Anna, Associate General Counsel for Legislation and Regulations, Department of Housing and Urban Development, 451 7th Street SW, Room 10238, Washington, DC 20410; telephone number 202-708-1793 (this is not a toll-free number). Persons with hearing or speech impairments may access this number through TTY by calling the toll-free Federal Relay at 800-877-8339 (this is a toll-free number).

SUPPLEMENTARY INFORMATION: On June 10, 2021 (86 FR 30779), HUD published its Restoring Affirmatively Furthering Fair Housing Definitions and Certifications interim final rule. Following publication, the Federal Register alerted HUD to an error in the amendatory instruction for revisions to 24 CFR 92.508. Specifically, the amendatory instruction directed that paragraph (a)(7)(i)(C) be revised, however, the revision being made by the interim final rule is to paragraph (a)(7)(i)(B). This document corrects the amendatory instructions for 24 CFR 92.508 to reflect the correct paragraph being revised.

Correction

In FR Doc. 2021-12114 appearing on page 30779 in the Federal Register on June 10, 2021, the following correction is made:

§ 92.508 [Corrected]

On page 30792, in the second column, after the title for part 92, in amendment 11, the instruction “Amend § 92.508 by revising paragraph (a)(7)(i)(C) to read as follows:” is corrected to read “Amend § 92.508 by revising paragraph (a)(7)(i)(B) to read as follows:”

Aaron Santa Anna,
Associate General Counsel for Legislation and Regulations.

[FR Doc. 2021-14011 Filed 6-30-21; 8:45 am]

BILLING CODE 4210-67-P